DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Vanessa M. Bachman, Acting Director, Office of Export Trading Company Affairs, International Trade Administration, by telephone at (202) 482-5131 (this is not a toll-free number) or by E-mail at oetca@ita.doc.gov.

SUPPLEMENTARY INFORMATION: Title III of the Export Trading Company Act of 1982 (15 U.S.C. Sections 4001 et seq.) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington, DC 20230, or transmit by E-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 01-00003.” A summary of the application follows.

Summary of the Application

Applicant: Sun Valley Rice Co., L.L.C. (“Sun Valley”), 7050 Eddy Road, Arbuckle, California 95912.

Contact: Michael V. LaGrande, President.

Telephone: (530) 476-3000.

Application No.: 01-00003.

Sun Valley's previous application, No. 01-00002, was published for comments on June 13, 2001 (66 FR 31894).

The applicant withdrew application on June 13, 2001, and this new application was subsequently filed.

Date Deemed Submitted: June 21, 2001.

Export Trade

1. Products

California rice and rice products (rough rice, brown rice, milled rice, undermilled or unpolished rice, coated rice, oiled rice, rice bran, rice polish, head rice, broken rice, second head rice, brewers rice, screenings, rice flour, and rice hulls).

2. Services

All services related to the export of Products.

3. Technology Rights

All intellectual property rights associated with Products or Services, including, but not limited to: patents, trademarks, service marks, trade names, copyrights, neighboring (related) rights, trade secrets, know-how, and sui generis forms of protection for databases and computer programs.

4. Export Trade Facilitation Services (as they Relate to the Export of Products, Services and Technology Rights)

Export Trade Facilitation Services, including, but not limited to: consulting and trade strategy; sales and marketing; export brokerage; foreign marketing and analysis; foreign market development; overseas advertising and promotion; product research and design based on foreign buyer and consumer preferences; documentation and services related to compliance with customs requirements; joint ventures; inspection and quality control; transportation; shipping and export management; export licensing; insurance and financing; billing of foreign buyers; collection (letters of credit and other financial instruments); provision of overseas sales and distribution facilities and overseas sales staff; legal; accounting and tax assistance; management information systems development and application; trade show exhibitions; professional services in the area of government relations and assistance with state and federal export assistance programs, such as the Export Enhancement and Market Promotion programs.

Export Markets

The Export Markets include all parts of the world except the United States, (the fifty states of the United States, the District of Columbia, the Commonwealth of Puerto Rico, the Virgin Islands, American Samoa, Guam, the Commonwealth of the Northern Mariana Islands, and the Trust Territory of the Pacific Islands).

Export Trade Activities and Methods of Operation

In connection with sales of Products for export, Sun Valley, on a transaction-by-transaction basis, may:

(a) Exchange information with suppliers or other entities individually regarding availability of and prices for Products for export, and inventories and near-term production and delivery schedules for purposes of determining the availability of Products for purchase and export and coordinating export of Products with its distributors and customers in the Export Markets;

(b) Confer with suppliers about the possibility of offers to and purchases by Sun Valley for a specific export sales opportunity;

(c) Solicit suppliers to offer/sell Products through the certified activities of Sun Valley;

(d) Solicit orders from potential foreign distributors and purchasers for sale of Products in Export Markets;

(e) Prepare and submit offers of Products to potential foreign distributors, purchasers or other entities for sale in Export Markets;

(f) Establish the price and quantity of Products for sale in Export Markets and set other terms for any other sale;

(g) Negotiate and enter into agreements for sale of Products in Export Markets;

(h) Enter into agreements to purchase Products from one or more suppliers to fulfill specific sale obligations, which may be agreements whereby suppliers agree to deal exclusively with Sun Valley for sale of the Products in a particular Export Market or Markets and/or whereby Sun Valley agrees to purchase exclusively any particular supplier's (or suppliers”) Products for resale in the Export Market;

(i) Assign sales of Products to, and/or divide export orders among, suppliers or other persons based on orders, Export Market, territories, customers, or on any other basis Sun Valley deems fit;

(j) Broker and take title to the Product;

(k) Enter into agreements with one or more Export Trade Intermediaries or export trade purchasers for the purchase of Products, which may be agreements whereby Sun Valley agrees to deal exclusively with an entity or customer in a particular Export Market, and/or by which that customer or intermediary agrees to deal exclusively with Sun Valley and/or agrees not to purchase from Sun Valley's competitors in any Export Market, unless so authorized;

(l) Apply for and utilize applicable export assistance and incentive programs which are available within government and private sectors;

(m) Provide Export Trade Facilitation Services including, but not limited to, arranging and coordinating delivery of Product to port of export; arranging for inland and/or ocean transportation; allocating Products to vessel; arranging for storage space at port; arrange for warehousing, stevedoring, wharfage, handling, inspection, fumigation, quality control, freight forwarding, insurance, and documentation; invoicing foreign buyer; collecting payment for product; and arranging for payment of applicable commissions and fees;

(n) Refuse to purchase Product or provide information regarding export sales of Product to any supplier(s) or other entities for any reason Sun Valley deems fit;

(o) Refuse to sell Product, to quote prices for Product, to provide information regarding Product, or to market or sell Product to any customers or distributors in the Export Markets, or in any countries or geographical areas in the Export Markets; and

(p) Meet with suppliers or other entities periodically to discuss general matters specific to exporting (not related to price and supply arrangements between Sun Valley and the individual suppliers) such as relevant facts concerning the Export Markets (e.g., demand conditions, transportation costs and prices in the Export Markets), or the possibility of joint marketing, bidding or selling arrangements in the Export Markets.

Definition

Export Intermediary means a person who acts as distributor, sales representative, sales or marketing agent, or broker, or who performs similar functions including providing or arranging for the provision of Export Trade Facilitation Services.

Dated: June 26, 2001.
Vanessa M. Bachman,
Acting Director, Office of Export Trading, Company Affairs.

[FR Doc. 01-16455 Filed 6-28-01; 8:45 am]

BILLING CODE 3510-DR-P